DEPARTMENT OF ENERGY

Federal Energy Regulatory Commission

Combined Notice of Filings #2

Take notice that the Commission received the following electric rate filings:

Docket Numbers: ER10-2596-004.

Applicants: Fowler Ridge II Wind Farm LLC.

Description: Notification of Change in Status of Fowler Ridge II Wind Farm LLC.

Filed Date: 2/24/15.

Accession Number: 20150224-5136.

Comments Due: 5 p.m. ET 3/17/15.

Docket Numbers: ER13-769-001.

Applicants: Entergy Mississippi, Inc.

Description: Compliance filing per 35: Settlement and Updated Reimbursement Agreement Under ER13-769 to be effective 12/19/2013.

Filed Date: 1/23/15.

Accession Number: 20150123-5069.

Comments Due: 5 p.m. ET 3/2/15.

Docket Numbers: ER13-770-001.

Applicants: Entergy Louisiana, LLC.

Description: Compliance filing per 35: Settlement and Updated Reimbursement Agreement Under ER13-770 to be effective 12/19/2013.

Filed Date: 1/23/15.

Accession Number: 20150123-5070.

Comments Due: 5 p.m. ET 3/2/15.

Docket Numbers: ER15-1087-000.

Applicants: Midcontinent Independent System Operator, Inc., American Transmission Systems, Incorporated.

Description: § 205(d) rate filing per 35.13(a)(2)(iii): 2015-02-24_SA 2748 ATC-Wisconsin Power and Light CFA to be effective 4/26/2015.

Filed Date: 2/24/15.

Accession Number: 20150224-5114.

Comments Due: 5 p.m. ET 3/17/15.

Docket Numbers: ER15-1088-000.

Applicants: Midcontinent Independent System Operator, Inc., American Transmission Systems, Incorporated.

Description: § 205(d) rate filing per 35.13(a)(2)(iii): 2015-02-24_SA 765 Notice of Termination of Bill of Sale (ATC-WPL) to be effective 4/26/2015.

Filed Date: 2/24/15.

Accession Number: 20150224-5130.

Comments Due: 5 p.m. ET 3/17/15.

Docket Numbers: ER15-1089-000.

Applicants: Amplified Power & Gas, LLC.

Description: Notice of Cancellation of MBR Rate Schedule No. 1 of Amplified Power & Gas, LLC.

Filed Date: 2/24/15.

Accession Number: 20150224-5141.

Comments Due: 5 p.m. ET 3/17/15.

Docket Numbers: ER15-1093-000.

Applicants: Fowler Ridge II Wind Farm LLC.

Description: § 205(d) rate filing per 35.13(a)(2)(iii): Market-Based Rate Tariff Revisions to be effective 4/26/2015.

Filed Date: 2/24/15.

Accession Number: 20150224-5166.

Comments Due: 5 p.m. ET 3/17/15.

Take notice that the Commission received the following land acquisition reports:

Docket Numbers: LA14-4-000.

Applicants: Ashtabula Wind, LLC, Ashtabula Wind II, LLC, Ashtabula Wind III, LLC, Backbone Mountain Windpower, LLC, Baldwin Wind, LLC, Bayswater Peaking Facility, LLC, Blackwell Wind, LLC, Butler Ridge Wind Energy Center, LLC, Cimarron Wind Energy, LLC, Crystal Lake Wind, LLC, Crystal Lake Wind II, LLC, Crystal Lake Wind III, LLC, Day County Wind, LLC, Desert Sunlight 250, LLC, Desert Sunlight 300, LLC, Diablo Winds, LLC, Elk City Wind, LLC, Elk City II Wind, LLC, Energy Storage Holdings, LLC, Ensign Wind, LLC, ESI Vansycle Partners, L.P., Florida Power & Light Company, FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL Energy Marcus Hook, L.P., FPL Energy MH50, L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, LLC, FPL Energy Wyman, LLC, FPL Energy Wyman IV, LLC, Garden Wind, LLC, Genesis Solar, LLC, Gray County Wind Energy, LLC, Hatch Solar Energy Center I, LLC, Hawkeye Power Partners, LLC, High Majestic Wind Energy Center, LLC, High Majestic Wind II, LLC, High Winds, LLC, Jamaica Bay Peaking Facility, LLC, Lake Benton Power Partners II, LLC, Langdon Wind, LLC, Limon Wind, LLC, Limon Wind II, LLC, Limon Wind III, LLC, Logan Wind Energy LLC, Mammoth Plains Wind Project, LLC, Mantua Creek Solar, LLC, Meyersdale Windpower LLC, Mill Run Windpower, LLC, Minco Wind, LLC, Minco Wind II, LLC, Minco Wind III, LLC, Minco Wind Interconnection Services, LLC, Mountain View Solar, LLC, NEPM II, LLC, NextEra Energy Duane Arnold, LLC, NextEra Energy Montezuma II Wind, LLC, NextEra Energy Point Beach, LLC, NextEra Energy Power Marketing, LLC, NextEra Energy Seabrook, LLC, NextEra Energy Services Massachusetts, LLC, Northeast Energy Associates, LP, North Jersey Energy Associates, a Limited Partnership, North Sky River Energy, LLC, Northern Colorado Wind Energy, LLC, Osceola Windpower, LLC, Osceola Windpower II, LLC, Palo Duro Wind Energy, LLC, Palo Duro Wind Interconnection Services, LLC, Paradise Solar Urban Renewal, L.L.C., Peetz Table Wind Energy, LLC, Pennsylvania Windfarms, LLC, Perrin Ranch Wind, LLC, Pheasant Run Wind, LLC, Red Mesa Wind, LLC, Seiling Wind, LLC, Seiling Wind II, LLC, Seiling Wind Interconnection Services, LLC, Sky River LLC, Somerset Windpower, LLC, Steele Flats Wind Project, LLC, Story Wind, LLC, Tuscola Bay Wind, LLC, Tuscola Wind II, LLC, Vasco Winds, LLC, Waymart Wind Farm, L.P., Wessington Wind Energy Center, LLC, White Oak Energy LLC, Wilton Wind II, LLC, Windpower Partners 1993, LLC.

Description: Errata to February 9, 2015 Quarterly Land Acquisition Report of the NextEra Energy Companies.

Filed Date: 02/23/2015.

Accession Number: 20150223-5260.

Comment Date: 5 p.m. ET 3/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2015-04242 Filed 2-27-15; 8:45 am]

BILLING CODE 6717-01-P